FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, without revision, the Complex Institution Liquidity Monitoring Report (FR 2052a; OMB No. 7100-0361).

DATES: Comments must be submitted on or before December 2, 2024.

ADDRESSES: You may submit comments, identified by FR 2052a, by any of the following methods:

• Agency website: https://www.federalreserve.gov/. Follow the instructions for submitting comments at https://www.federalreserve.gov/apps/foia/proposedregs.aspx.

• Email: regs.comments@federalreserve.gov. Include the OMB number or FR number in the subject line of the message.

• FAX: (202) 452-3819 or (202) 452-3102.

• Mail: Federal Reserve Board of Governors, Attn: Ann E. Misback, Secretary of the Board, Mailstop M-4775, 2001 C St NW, Washington, DC 20551.

All public comments are available from the Board's website at https://www.federalreserve.gov/apps/foia/proposedregs.aspx as submitted, unless modified for technical reasons or to remove personally identifiable information at the commenter's request. Accordingly, comments will not be edited to remove any confidential business information, identifying information, or contact information. Public comments may also be viewed electronically or in paper in Room M-4365A, 2001 C St NW, Washington, DC 20551, between 9:00 a.m. and 5:00 p.m. on weekdays, except for Federal holidays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, nuha.elmaghrabi@frb.gov, (202) 452-3884.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement (which contains more detail about the information collection and burden estimates than this notice), and other documentation, will be made available on the Board's public website at https://www.federalreserve.gov/apps/reportingforms/home/review or may be requested from the agency clearance officer, whose name appears above. On the page displayed at the link above, you can find the supporting information by referencing the collection identifier, FR 2052a. Final versions of these documents will be made available at https://www.reginfo.gov/public/do/PRAMain, if approved.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, Without Revision, the Following Information Collection

Collection title: Complex Institution Liquidity Monitoring Report.

Collection identifier: FR 2052a.

OMB control number: 7100-0361.

General description of collection: The FR 2052a collects quantitative information on select assets, liabilities, funding activities, and contingent liabilities of certain banking organizations. The Board uses this information to monitor the liquidity profile of these banking organizations.

The data collected by the FR 2052a provide detailed information about the liquidity risks within different business lines (e.g., financing of securities positions or prime brokerage activities) of certain large banking organizations supervised by the Board. The Board's supervisory surveillance program relies on this data, which provide timely information about banking organization-specific liquidity risks during periods of stress. The Board uses analyses of liquidity risk to inform its supervisory processes, including the preparation of analytical reports that detail funding vulnerabilities. FR 2052a data also contribute to the Board's supervisory monitoring efforts by identifying potential impediments to the movement of liquidity across legal entities. In addition, the FR 2052a provides detailed information that the Board uses to monitor compliance with the Liquidity Coverage Ratio (LCR) and Net Stable Funding Ratio (NSFR) rules under the Board's Regulation WW—Liquidity Risk Measurement, Standards, and Monitoring (12 CFR part 249)

Frequency: Daily, monthly.

Respondents: Banking organizations subject to Category I, II, III, or IV standards under the Board's Regulation YY and Regulation LL. The panel includes (1) any top-tier U.S. bank holding company with $100 billion or more in total consolidated assets that is not a subsidiary of a foreign banking organization, (2) any top-tier U.S. savings and loan holding company with $100 billion or more in total consolidated assets that is a covered depository institution holding company as defined by the LCR and NSFR rules and is not a subsidiary of a foreign banking organization, and (3) any foreign banking organization, as defined by the Board's Regulation YY, with combined U.S. assets of $100 billion or more.

Total estimated number of respondents: Daily, 18; Monthly, 23.

Estimated average hours per response: Daily, 221; Monthly 121.

Total estimated annual burden hours: 1,027,896.

Request for Comment on the Burden Estimates: The Board is seeking comment specifically on the accuracy of the estimated hours per response for both daily filers (221 hours per day) and monthly filers (121 hours per month). Commenters are encouraged to provide details on how long it takes to comply with these requirements such as the number of staff involved, how much time staff spend, and how much, if any, of the reporting process is automated. General comments on whether the Board's estimates are reasonable, underestimated, or overestimated are also welcome.

Board of Governors of the Federal Reserve System, September 27, 2024.
Benjamin W. McDonough,
Deputy Secretary and Ombuds of the Board.

[FR Doc. 2024-22639 Filed 10-1-24; 8:45 am]

BILLING CODE 6210-01-P